DEPARTMENT OF STATE

[Delegation of Authority 330]

Re-Delegation to Daniel Sreebny of the Functions and Authorities of the Coordinator, Bureau of International Information Programs

By virtue of the authority vested in me as the Under Secretary of State for Public Diplomacy and Public Affairs by law, including by Delegation of Authority No. 234 of October 1, 1999, and the Foreign Affairs Reform and Restructuring Act of 1998 (112 Stat. 2681, et seq.), and to the extent authorized by law, I hereby delegate to Daniel Sreebny the functions and authorities of the Coordinator, Bureau of International Information Programs.

The Secretary of State, the Deputy Secretary of State, the Deputy Secretary of State for Management and Resources, and the Under Secretary of State for Public Diplomacy and Public Affairs may at any time exercise the functions and authorities delegated herein. The functions and authorities delegated herein may not be further delegated without my approval.

This delegation shall take effect upon the designation and appointment by the Secretary of State of Daniel Sreebny to serve as Acting Coordinator. It shall expire upon the selection and entry upon duty of an individual to serve as the Coordinator, Bureau of International Information Programs, or the appointment and entry upon duty of an individual to serve as the Assistant Secretary for International Information Programs, whichever shall occur first.

This delegation of authority shall be published in the Federal Register.

Dated: January 12, 2010.
Judith A. McHale,
Under Secretary for Public Diplomacy and Public Affairs.

[FR Doc. 2010-1327 Filed 1-22-10; 8:45 am]

BILLING CODE 4710-11-P